DEPARTMENT OF HEALTH AND HUMAN SERVICES

Administration for Children and Families

Administration on Children, Youth and Families; Award Announcement

AGENCY: Administration on Children, Youth and Families, ACF, HHS.

ACTION: Award announcement.

SUMMARY: The Administration on Children, Youth and Families, Family and Youth Services Bureau (FYSB), herein announces the awarding of twenty-eight urgent grant awards in order to enable seventeen Mentoring Children of Prisoner Programs and eleven Training and Technical Assistance providers to respond immediately to hurricane disaster evacuee needs in their States and local communities. The effects of Hurricane Katrina have disrupted the ability of the children whose parents are incarcerated to receive mentoring services due to their forced relocation throughout the nation. As a result, FYSB's network of mentoring grantees and training and technical assistance providers are uniquely positioned to respond to the increase in the numbers of children of incarcerated parents arriving in their new communities. The following agencies are receiving grant funds for a twelve month project period: Big Brothers Big Sisters of Heart, Macon, Georgia, in the amount of $95,000; State of Alabama Child Abuse and Neglect Prevention Board, Montgomery, Alabama, in the amount of $50,000; YMCA of Greater Louisville, Louisville, Kentucky, in the amount of $50,000; Big Brothers Big Sisters of Mississippi, Jackson, Mississippi, in the amount of $95,000; Family and Children's Agency, Inc., Norwalk, Connecticut, in the amount of $21,350; America on Track of Santa Ana, California in the amount of $95,000; Volunteers in Prevention, Probation and Prisons, Detroit, Michigan, in the amount of $95,000; Centerforce, Inc. of San Rafael, California in the amount of $63,170; Big Brothers Big sisters of Boone County, Columbia, Missouri, in the amount of $95,000; Big Brothers Big Sisters of Kentucky, Louisville, Kentucky, in the amount of $95,000; Rhode Islanders Sponsoring Education, Providence, Rhode Island, in the amount of $13,900; Mississippi Gulf Coast YMCA, Ocean Springs, Mississippi, in the amount of $99,553; Families Under Urban and Social Attacks, Houston, Texas, in the amount of $56,250; Big Buddy Program, Baton Rouge, Louisiana, in the amount of $90,000; Big Brothers Big Sisters of Nevada, Reno, Nevada, in the amount of $95,000; Big Brothers Big Sisters of Eastern Missouri, St. Louis, Missouri, in the amount of $95,000; Pima Prevention Partnership, Tucson, Arizona, in the amount of $33,936; The University of Oklahoma National Resource Center for Youth Services, Tulsa, Oklahoma, in the amount of $700,000; Mid-Atlantic Network of Youth and Family Services, Pittsburgh, Pennsylvania, in the amount of $100,000; Youth Network Council, Chicago, Illinois, in the amount of $100,000; Southeastern Network of Youth and Family Services, Bonita Springs, Florida, in the amount of $100,000; Empire State Coalition of Youth and Family Services, New York, New York, in the amount of $100,000; Northwest Network of Runaway and Youth Services, Seattle, Washington, in the amount of $100,000; Western States Youth Services Network, Petaluma, California, in the amount of $100,000; New England Network for Child, Youth and Family Services, Burlington, Vermont, in the amount of $100,000; Southwest Network of Youth Services, Austin, Texas, in the amount of $100,000; Mountain Plains Network for Youth, Bismarck, North Dakota, in the amount of $100,000; MINK Network of Runaway and Homeless Youth Services, Lenexa, Kansas, in the amount of $65,000.

The seventeen Mentoring Children of Prisoners Programs will be responsible for reconnecting or establishing new mentoring relationships with evacuated children of incarcerated persons in their new communities. In addition to the seventeen Mentoring Children of Prisoners Programs being funded, the Family and Youth Services Bureau is funding eleven Training and Technical Assistance providers that will provide specialized technical assistance to the Mentoring Children of Prisoners Program grantees in their respective regions. The eleven Training and Technical Assistance Providers are well positioned to assist the seventeen Mentoring Children of Prisoners Programs in identifying children of incarcerated persons who are new to a community, developing a plan to provide them with mentoring support and coordinating services with other programs, Federal staff and their contractors.

FOR FURTHER INFORMATION CONTACT: Curtis O. Porter, Director, Youth Development Division, Family and Youth Services Bureau, 330 C Street, SW., Washington, DC 20447, Phone: 202-205-8102.

Dated: October 6, 2005.
Joan E. Ohl,
Commissioner, Administration on Children, Youth and Families.

[FR Doc. 05-20532 Filed 10-12-05; 8:45 am]

BILLING CODE 4184-01-P